DEPARTMENT OF THE TREASURY

Submission for OMB Review; Comment Request

September 21, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 30, 2000, to be assured of consideration.

Departmental Offices/Office of Foreign Assets Control

OMB Number: 1505-0130.

Form Number: None.

Type of Review: Extension.

Title: Iraqi Sanctions Regulations.

Description: United Nations Security Council Resolution 986 authorizes certain transactions with Iraq. These regulations implement that resolution pursuant to the International Emergency Economic Powers Act., 50 U.S.C. 1701-1706 and the United Nations Participation Act, 22 U.S.C. 287c.

Respondents: Business or other for-profit, Individuals or households, Not-for-profit institutions.

Estimated Number of Respondents: 150.

Estimated Burden Hours Per Respondent: 1 hour.

Frequency of Response: On occasion.

Estimated Total Reporting Burden: 150 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Departmental Reports Management Officer.

[FR Doc. 00-24971 Filed 9-28-00; 8:45 am]

BILLING CODE 4810-25-P